NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for the Materials Research (DMR)—2D Crystal Consortium (2DCC-MIP) Site Visit (#1203).

Date and Time: July 17, 2024; 8:00 a.m.-6:00 p.m., July 18, 2024; 8:00 a.m.-4:00 p.m.

Place: Millennium Science Complex, Room N-201, 100 Pollock Road, University Park, PA 16802.

Type of Meeting: Part-open.

Contact Person: Z. Charles Ying, Program Director, Division of Materials Research, National Science Foundation, 2415 Eisenhower Avenue, Alexandria, VA 22314; Telephone (703) 292-8428.

Purpose Of Meeting: NSF site visit to provide advice and recommendations concerning further support of the 2DCC-MIP at the University of Pennsylvania.

Agenda

Monday, July 17, 2024

8:00 a.m.-8:50 a.m.—Executive Session (Closed)

8:50 a.m.-12:00 p.m.—Review of 2DCC-MIP (Open)

12:00 p.m.-1:00 p.m.—Executive Session (Closed)

1:00 p.m.-2:00 p.m.—Review of 2DCC-MIP (Open)

2:00 p.m.-6:00 p.m.—Executive Session (Closed)

Tuesday, July 18, 2024

8:00 a.m.-4:00 p.m.—Executive Session (Closed)

Reason for Closing: Topics to be discussed and evaluated during closed portions of the site review will include information of a proprietary or confidential nature, including technical information; and information on personnel. These matters are exempt under 5 U.S.C. 552b(c), (4) and (6) of the Government in the Sunshine Act.

Dated: June 14, 2024.
Crystal Robinson,
Committee Management Officer.

[FR Doc. 2024-13517 Filed 6-20-24; 8:45 am]

BILLING CODE 7555-01-P